DEPARTMENT OF COMMERCE

International Trade Administration

[A-533-883, A-588-878]

Glycine From India and Japan: Amended Final Affirmative Antidumping Duty Determination and Antidumping Duty Orders

AGENCY: Enforcement and Compliance, International Trade Administration, Department of Commerce.

SUMMARY: Based on affirmative final determinations by the Department of Commerce (Commerce) and the International Trade Commission (ITC), Commerce is issuing antidumping duty orders on glycine from India and Japan. In addition, Commerce is amending its final affirmative determination on glycine from India.

DATES: Applicable June 21, 2019.

FOR FURTHER INFORMATION CONTACT: Edythe Artman at (202) 482-3931 or Kent Boydston at (202) 482-5649 (India), or John McGowan at (202) 482-3019 (Japan), AD/CVD Operations, Office VI, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), Commerce published its affirmative final determinations in the less-than-fair-value investigations of glycine from India and Japan on May 1, 2019.¹ On June 14, 2019, the ITC notified Commerce of its final affirmative determinations that an industry in the United States is materially injured within the meaning of section 735(b)(1)(A)(i) of the Act, by reason of the less-than-fair-value imports of glycine from India and Japan.²

¹ See Glycine from India: Final Determination of Sales at Less Than Fair Value, 84 FR 18487 (May 1, 2019) (India Final Determination); see also Glycine from Japan: Final Determination of Sales at Less Than Fair Value, 84 FR 18484 (May 1, 2019).

² See section 735(d) of the Act (requiring notification); see also ITC Letter dated June 14, 2019 (ITC Letter).

Scope of the Orders

The merchandise covered by these orders is glycine from India and Japan. For a complete description of the scope of the orders, see the Appendix to this notice.

Amendment to Final Determination

A ministerial error is defined as an error in addition, subtraction, or other arithmetic function, clerical error resulting from inaccurate copying, duplication, or the like, and any other similar type of unintentional error which the Secretary considers ministerial.³

³ See section 735(e) of the Act and 19 CFR 351.224(f).

Pursuant to sections 735(e) of the Act and 19 CFR 351.224(e) and (f), Commerce is amending the India Final Determination to reflect the correction of two ministerial errors in the final estimated weighted-average dumping margin calculated for Kumar Industries, India (Kumar). In addition, because Kumar's estimated weighted-average dumping margin is the basis for the estimated weighted-average dumping margin determined for all other Indian producers and exporters of subject merchandise, we also are revising the “all-others” rate in the India Final Determination.⁴ The amended estimated weighted-average dumping margins are listed in the Suspension of Liquidation section below.

⁴ See Memorandum, “Less-Than-Fair-Value Investigation of Glycine from India: Allegations of Ministerial Errors in the Final Determination,” dated May 29, 2019 (Ministerial Error Memorandum).

Antidumping Duty Orders

On June 14, 2019, in accordance with sections 735(b)(1)(A)(i) and 735(d) of the Act, the ITC notified Commerce of its final determinations that an industry in the United States is materially injured by reason of imports of glycine from India and Japan.⁵ Therefore, in accordance with sections 735(c)(2) and 736 of the Act, we are issuing these antidumping duty orders. Because the ITC determined that imports of glycine from India and Japan are materially injuring a U.S. industry, unliquidated entries of such merchandise from India and Japan, entered or withdrawn from warehouse for consumption, are subject to the assessment of antidumping duties.

⁵ See ITC Letter.

As a result of the ITC's final affirmative determinations, in accordance with section 736(a)(1) of the Act, Commerce will direct U.S. Customs and Border Protection (CBP) to assess, upon further instruction by Commerce, antidumping duties equal to the amount by which the normal value of the merchandise exceeds the export price or constructed export price of the merchandise, for all relevant entries of glycine from India and Japan. In the case of entries from India, the antidumping duties will be adjusted for export subsidies found in the final determination of the companion countervailing duty investigation.⁶ Antidumping duties will be assessed on unliquidated entries of glycine from India and Japan entered, or withdrawn from warehouse, for consumption on or after October 31, 2018, the date of publication of the Preliminary Determinations, ⁷ but will not include entries occurring after the expiration of the provisional measures period and before publication in the Federal Register of the ITC's injury determination, as further described below.

⁶ See India Final Determination, 84 FR at 18488.

⁷ See Glycine from India: Preliminary Affirmative Determination of Sales at Less Than Fair Value, Postponement of Final Determination, and Extension of Provisional Measures, 83 FR 54713 (October 31, 2018); Glycine from Japan: Preliminary Determination of Sales at Less Than Fair Value and Postponement of Final Determination, 83 FR 54718 (October 31, 2018) (collectively, Preliminary Determinations).

Suspension of Liquidation

In accordance with section 736 of the Act, Commerce will instruct CBP to reinstitute the suspension of liquidation of subject merchandise (i.e., glycine from India and Japan), effective the date of publication of the ITC final determination in the Federal Register, and to assess, upon further instruction by Commerce pursuant to section 736(a)(1) of the Act, antidumping duties for each entry of the subject merchandise equal to the amount by which the normal value of the merchandise exceeds the export price or constructed export price of the merchandise, adjusted by the amount of export subsidies, where appropriate. We intend to instruct CBP to require, at the same time as importers would normally deposit estimated import duties on this merchandise, cash deposits for each entry of subject merchandise equal to the rates noted below. These instructions suspending liquidation will remain in effect until further notice. The all-others rates apply to all other producers or exporters not specifically listed.

Estimated Weighted-Average Dumping Margins

The estimated weighted-average dumping margins for each antidumping duty order are as follows:

Exporter/producer | Estimated weighted- average dumping margin (percent) | Cash deposit rate (adjusted for subsidy offsets) (percent)
India
Kumar Industries, India | 13.61 | 6.62
Paras Intermediates Private Limited | 10.86 | ⁸ 7.83
All Others | 12.24 | ⁹ 7.23
Japan
Yuki Gosei Kogyo Co., Ltd | 53.66 | NA
Showa Denko K.K | 86.22 | NA
All Others | 53.66 | NA
NA = Not Applicable.

Provisional Measures

Section 733(d) of the Act 8 9 states that suspension of liquidation pursuant to an affirmative preliminary determination may not remain in effect for more than six months. Commerce published its affirmative Preliminary Determinations on October 31, 2018. Therefore, the six-month period beginning on the date of publication of the Preliminary Determinations ended on April 28, 2019. Pursuant to section 737(b) of the Act, the collection of cash deposits at the rates listed above will begin on the date of publication of the ITC's final injury determination in the Federal Register.

⁸ See India Final Determination, 84 FR at 18488.

⁹ Id.; see Ministerial Error Memorandum at 4.

Therefore, in accordance with section 733(d) of the Act, Commerce instructed CBP to terminate the suspension of liquidation and to liquidate, without regard to countervailing duties, unliquidated entries of glycine from India and Japan entered, or withdrawn from warehouse, for consumption after April 28, 2019, the date on which the provisional measures expired, through the day preceding the date of publication of the ITC's final affirmative injury determinations in the Federal Register. Suspension of liquidation will resume on the date of publication of the ITC's final affirmative injury determinations in the Federal Register.

Notification to Interested Parties

This notice constitutes the antidumping duty orders with respect to glycine from India and Japan pursuant to section 736(a) of the Act. Interested parties can find a list of antidumping duty orders currently in effect at http://enforcement.trade.gov/stats/iastats1.html.

These orders are published in accordance with section and 736(a) of the Act and 19 CFR 351.211(b).

Dated: June 18, 2019.
Jeffrey I. Kessler,
Assistant Secretary for Enforcement and Compliance.

Appendix

Scope of the Orders

The merchandise covered by these orders is glycine at any purity level or grade. This includes glycine of all purity levels, which covers all forms of crude or technical glycine including, but not limited to, sodium glycinate, glycine slurry and any other forms of amino acetic acid or glycine. Subject merchandise also includes glycine and precursors of dried crystalline glycine that are processed in a third country, including, but not limited to, refining or any other processing that would not otherwise remove the merchandise from the scope of these orders if performed in the country of manufacture of the in-scope glycine or precursors of dried crystalline glycine. Glycine has the Chemical Abstracts Service (CAS) registry number of 56-40-6. Glycine and glycine slurry are classified under Harmonized Tariff Schedule of the United States (HTSUS) subheading 2922.49.43.00. Sodium glycinate is classified in the HTSUS under 2922.49.80.00. While the HTSUS subheadings and CAS registry number are provided for convenience and customs purposes, the written description of the scope of these orders is dispositive.

[FR Doc. 2019-13362 Filed 6-20-19; 8:45 am]

BILLING CODE 3510-DS-P